DEPARTMENT OF THE INTERIOR

Bureau of Land Management

[CA-650-1430-HN; CA-46267]

Direct Sale of Public Land; San Bernardino County, California

AGENCY: Bureau of Land Management, Interior.

ACTION: Notice of realty action.

SUMMARY: A 39.99 acre parcel of public land in San Bernardino County, California is being considered for direct sale to Searles Valley Minerals, Inc. to resolve an unauthorized use of public land. This land is difficult and uneconomic to manage as part of the public lands and is not suitable for management by another Federal agency.

DATES: Interested parties may submit comments to the Ridgecrest Field Manager, at the below address. Comments must be received by not later than August 29, 2005. In the absence of timely objections, this proposal shall become the final determination of the Department of the Interior.

ADDRESSES: Bureau of Land Management, Ridgecrest Field Office c/o California Desert District at 22835 Calle San Juan De Los Lagos, Moreno Valley, California 92553.

FOR FURTHER INFORMATION CONTACT: Janet Eubanks, Realty Specialist, at the above address or at (951) 697-5376.

SUPPLEMENTARY INFORMATION: The following described land has been examined and found suitable for sale to Searles Valley Minerals, Inc. utilizing direct sale procedures, at not less than the appraised fair market value of $6,000. The land sale is contingent upon the approval of the West Mojave Plan, an amendment to the California Desert Conservation Area Plan of 1980 and will not be offered for sale until at least September 12, 2005.

Mount Diablo Meridian, San Bernardino County, California.

T. 25 S., R. 43 E.,

Sec. 21, lot 4.

Containing approximately 39.99 acres.

Authority for the sale is Section 203 of the Federal Land Policy and Management Act of October 21, 1976 (43 U.S.C. 1713). The mineral interests will be retained by the United States of America. The patent, when issued, will contain the following reservations to the United States:

1. A right-of-way thereon for ditches or canals constructed by the authority of the United States. Act of August 30, 1890 (43 U.S.C. 945).

2. A mineral lease granted to Kerr-McGee Chemical Corp. its successors or assigns, under lease CALA 087312.

3. (a) The United States reserves to itself all minerals in the lands subject to this conveyance, including, without limitation, substances subject to disposition under the general mining laws, the general mineral leasing laws, the Materials Act and the Geothermal Steam Act.

(b) The United States reserves to itself its permittees, licensees, lessee and mining claimants, the right to prospect for, mine and remove the mineral owned by the United States under applicable law and such regulations as the Secretary of the Interior may prescribe. This reservation includes all necessary and incidental activities conducted in accordance with the provisions of the mining, geothermal and mineral leasing, and material disposal laws in effect at the time such activities are undertaken, including, without limitation, necessary access and exit rights, all drilling, underground, open pit or surface mining operations, storage and transportation facilities deemed necessary and authorized under law and implementing regulations.

(c) Mining claimants, permittees, licensees and lessees of the United States, shall only be liable for and shall only compensate owners of the surface estate for damages caused by their actions or inactions and not related to conditions on the real property relating to or arising from the boiler ash or any hazardous substances or solid waste released, disposed of, or stored on the real property.

(d) All causes of action brought to enforce the rights of the surface owner under the regulations above referred to shall be instituted against mining claimants, permittees, licensees and lessees of the United States; and the United States shall not be liable for the acts or omissions of its mining claimants, permittees, licensees, or lessees.

The proposed sale is also subject to those rights for monitoring wells granted to Kerr-McGee Chemical Corp. by right-of-way serial number CACA-034604, pursuant to Title V of the Act of October 21, 1976 (43 U.S.C. 1761).

The above described land has been used as a disposal site for boiler ash generated by Kerr-McGee Chemical Corp. from operations at Searles Lake, Trona, California. Permanent records regarding the disposal of boiler ash on this land are maintained by Kerr-McGee Chemical LLC at the Kerr-McGee Center, Oklahoma City, Oklahoma, and available for public inspection. Although there is no indication these materials pose any significant risk to human health or the environment, the foregoing reservations of rights in favor of the United States and its permittees, licensees, lessees and mining claimants shall be exercised in a manner and on terms and conditions consistent with, and patentee and its successors and assigns shall limit future land uses on or affecting the disposal site to those consistent with, the closure and post-closure plans for the site approved by the California Regional Water Quality Control Board Lahontan Region, any applicable State and Federal laws and regulations.

Patentee, its successors and assignor agrees to indemnify, defend, and hold the United States harmless from any costs, damages, claims, liabilities, and judgements for the real property including the boiler ash site arising from acts or omissions of the patentee, its employees, agents, contractors, lessees or any third parties arising out of or in connection with, patentee's use, occupancy, or operations on the patented real property. This indemnification and hold harmless agreement includes, but is not limited to, acts and omissions of the patentee, its employees, agents, contractors, lessees, or any third parties arising out of or in connection with the use and/or occupancy of the patented real property, including the boiler ash site, that has resulted in or does hereafter result in any of the following: (1) Violations of Federal, state, and local laws and regulations; (2) judgements, claims or demands assessed against the United States; (3) costs, expenses, or damages incurred by the United States; (4) releases or threatened releases, including but not limited to the boiler ash on or into land, property and other interests of the United States; (5) other activities by which hazardous substances, boiler ash, or solid waste was generated, released, stored, used or otherwise disposed on the patented real property; or (6) any clean-up response, natural resource damage or other actions related in any manner to said boiler ash. This covenant shall be construed as running with the patented real property, and may be enforced by the United States in a court of competent jurisdiction.

The proposed sale is also subject to those rights for monitoring wells granted to Kerr-McGee Chemical Corp. by right-of-way serial number (CACA 34604), pursuant to Title V of the Act of October 21, 1976 (43 U.S.C. 1761).

This parcel of land located in Searles Valley, California, is being offered for sale through direct sale procedures authorized under 43 CFR 2711.3-3. This land has been used in trespass by Kerr-McGee Chemical Corp. to dispose of boiler ash and is no longer required for Federal purposes. The land is currently classified as intensive use under the CDCA plan, which does not allow for sale; however, the same land is being unclassified under the West Mojave Plan to allow for disposal of land through a direct sale. No action will be taken on these lands until the decision record for the West Mojave Plan is approved. The proposed action is consistent with the objectives, goals, and decisions of the West Mojave Plan.

An Environmental Assessment (EA) and a Finding of No Significant Impact (FONSI) has been prepared for this proposed sale. The EA and FONSI are available for public review and comment in the Ridgecrest Field Office. A copy may be requested from Janet Eubanks, Ridgecrest Realty Specialist at (951) 697-5376.

Publication of this Notice in the Federal Register segregates the subject land from all appropriations under the public land laws, including the general mining laws, except sale under the Federal Land Policy and Management Act of 1976. The segregation will terminate upon issuance of the patent upon publication in the Federal Register of a termination of the segregation, or 270 days from date of publication, whichever occurs first.

Interested parties may submit written comments to the Ridgecrest Field Manager at the above address. Comments must be received by not later than August 29, 2005.

Any adverse comments will be reviewed by the State Director, who may sustain, vacate, or modify this realty action and issue a final determination. In the absence of timely filed objections this realty action will become the final determination of the Department of the Interior. The land will not be offered for sale until at least September 12, 2005.

Linda D. Hansen,
District Manager, California Desert District (CA-610).

[FR Doc. 05-13881 Filed 7-13-05; 8:45 am]

BILLING CODE 4310-40-P